DEPARTMENT OF AGRICULTURE

Foreign Agricultural Service

Agricultural Technical Advisory Committees for Trade; Renewal

AGENCY: Foreign Agricultural Service, USDA.

ACTION: Notice.

SUMMARY: Pursuant to the Federal Advisory Committee Act, notice is hereby given that the Secretary of Agriculture (Secretary), in coordination with the United States Trade Representative (USTR), has renewed the six Agricultural Technical Advisory Committees for Trade (ATACs).

DATES: Effective: June 9, 2011.

FOR FURTHER INFORMATION CONTACT: Inquiries or comments regarding the renewal of these committees may be sent by electronic mail to: Lorie.Fitzsimmons@fas.usda.gov and Steffon.Brown@fas.usda.gov, or by fax to (202) 720-0340. The Office of Agreements and Scientific Affairs may be reached by telephone at (202) 720-6219, with inquiries directed to Lorie Fitzsimmons or Steffon Brown.

SUPPLEMENTARY INFORMATION:

Introduction

The ATACs are authorized by sections 135(c)(1) and (2) of the Trade Act of 1974, as amended (Pub. L. 93-618, 19 U.S.C. 2155). The purpose of these committees is to advise the Secretary and the USTR concerning agricultural trade policy. The committees are intended to ensure that representative elements of the private sector have an opportunity to express their views to the U.S. Government.

Rechartering of Existing Committees

Pursuant to the Federal Advisory Committee Act (5 U.S.C. Appendix), FAS gives notice that the Secretary and the USTR have renewed the following four ATACs:

• Animals and Animal Products;

• Fruits and Vegetables;

• Processed Foods, and;

• Sweeteners and Sweetener Products.

Pursuant to the Federal Advisory Committee Act (5 U.S.C. App. II), FAS gives notice that the Secretary and the USTR are reorganizing and then renewing the following two ATACs:

• Grains, Feed, Oilseeds and Planting Seeds.

• Tobacco, Cotton and Peanuts.

These ATACs are being reorganized by removing representation of the planting seeds industry from the Tobacco, Cotton, Peanuts and Planting Seeds (TCPPS) ATAC and adding representation of the planting seeds sector to the Grains, Feed and Oilseeds (GFO) ATAC. The justification for this structural change is that many of the issues that the GFO committee addresses, such as genetically modified organisms, new technologies and international negotiations, are common within the U.S. planting seeds industry. The proposed changes will result in the Tobacco, Cotton and Peanuts (TCP) ATAC and the Grains, Feed, Oilseeds, and Planting Seeds (GFOPS) ATAC.

In 1974, Congress established a private sector advisory committee system to ensure that U.S. trade policy and negotiation objectives adequately reflect U.S. commercial and economic interests. The private sector advisory committee system currently consists of the following three tiers:

• The President's Advisory Committee on Trade and Policy Negotiations;

• Five general policy advisory committees, including the Agricultural Policy Advisory Committee for Trade, and;

• Twenty-two technical advisory committees, including the ATACs.

The reorganizing and renewal of such committees is in the public interest in connection with USDA's performance of duties imposed on USDA by the Trade Act of 1974, as amended.

Dated: June 3, 2011.
Suzanne Heinen,
Administrator, Foreign Agricultural Service.

[FR Doc. 2011-14298 Filed 6-8-11; 8:45 am]

BILLING CODE 3410-10-P